DEPARTMENT OF HEALTH AND HUMAN SERVICES

Centers for Disease Control and Prevention

Board of Scientific Counselors, National Center for Injury Prevention and Control (BSC, NCIPC)

In accordance with Section 10(a)(2) of the Federal Advisory Committee Act (Pub. L. 92-463), the Centers for Disease Control and Prevention (CDC) announces the following meeting of the aforementioned board:

TIMES AND DATES:

9 a.m.-5:30 p.m., December 15, 2011 (Open).

9 a.m.-3 p.m., December 16, 2011 (Open).

Place: CDC, 1600 Clifton Road, NE., Building 19, Atlanta, Georgia 30333.

Status: Open to the public, limited only by the space available. There will be 15 minutes allotted for public comments at the end of the open session.

Purpose: The Board will: (1) Conduct, encourage, cooperate with, and assist other appropriate public health authorities, scientific institutions, and scientists in the conduct of research, investigations, experiments, demonstrations, and studies relating to the causes, diagnosis, treatment, control, and prevention of physical and mental diseases, and other impairments and (2) conduct and assist in research and control activities related to injury.

Matters To Be Discussed: The BSC, NCIPC will discuss the recommendations provided by the expert panel on the Research Portfolio Reviews that have been conducted and will discuss research strategies needed to guide the Center's focus.

Agenda items are subject to change as priorities dictate.

CONTACT PERSON FOR MORE INFORMATION: Dr. Gwendolyn H. Cattledge, Ph.D., M.S.E.H., Designated Federal Officer, NCIPC, CDC, 4770 Buford Highway, NE., Mailstop F-63, Atlanta, Georgia 30341, Telephone (770) 488-1430.

The Director, Management Analysis and Services Office, has been delegated the authority to sign Federal Register notices pertaining to announcements of meetings and other committee management activities, for both the Centers for Disease Control and Prevention and the Agency for Toxic Substances and Disease Registry.

Dated: October 25, 2011.
Elaine L. Baker,
Director, Management Analysis and Services Office, Centers for Disease Control and Prevention.

[FR Doc. 2011-28052 Filed 10-28-11; 8:45 am]

BILLING CODE 4163-18-P